DEPARTMENT OF COMMERCE

International Trade Administration

A-583-833

Certain Polyester Staple Fiber From Taiwan: Correction to the Final Results of Antidumping Duty Administrative Review

AGENCY: Import Administration, International Trade Administration, Department of Commerce.

SUMMARY: On October 21, 2008, the Department of Commerce (the Department) published in the Federal Register the final results of its administrative review of the antidumping duty order on polyester staple fiber from Taiwan. Our notice of final results stated erroneously that the margin we found for the respondent was 1.72 percent, however, the correct margin is 1.74 percent. No other changes have been made to the final results.

EFFECTIVE DATE: October 21, 2008

FOR FURTHER INFORMATION CONTACT: Thomas Schauer or Richard Rimlinger, AD/CVD Operations, Office 5, Import Administration, International Trade Administration, U.S. Department of Commerce, 14th Street and Constitution Avenue, NW, Washington DC 20230; telephone: (202) 482-0410 and (202) 482-4477, respectively.

SUPPLEMENTARY INFORMATION:

Background

On October 21, 2008, the Department of Commerce (the Department) published in the Federal Register the final results of its administrative review of the antidumping duty order on polyester staple fiber from Taiwan. See Certain Polyester Staple Fiber From Taiwan: Final Results of Antidumping Duty Administrative Review, 73 FR 62477 (October 21, 2008) (Final Results). In the Final Results, the Department stated incorrectly that the weighted-average percentage margin it found for Far Eastern Textile Limited (FET) is 1.72 percent. In fact, the margin we determined for FET is 1.74 percent. See the final results analysis memorandum for FET dated October 14, 2008. The Department has instructed U.S. Customs and Border Protection to collect a cash deposit of 1.74 percent for entries from FET, effective October 21, 2008.

We are issuing and publishing this determination and notice in accordance with sections 751(a)(1) and 777(i)(1) of the Tariff Act of 1930, as amended.

Dated: December 16, 2008.
Edward C. Yang,
Senior Enforcement Coordinator, China/NME Group for Import Administration.

[FR Doc. E8-30558 Filed 12-22-08; 8:45 am]

BILLING CODE 3510-DS-S